DEPARTMENT OF DEFENSE

Office of the Secretary

Submission for OMB Review; Comment Request

ACTION: Notice.

The Department of Defense has submitted to OMB for clearance, the following proposal for collection of information under the provisions of the paperwork Reduction Act (44 U.S.C. Chapter 35).

Title, Form Number, and OMB Number: Professional Qualifications, Medical and Peer Reviewers; CHAMPUS For 780; OMB Number 0720-0005.

Type of Request: Reinstatement.

Number of Respondents: 60.

Responses Per Respondent: 1.

Annual Responses: 60.

Average Burden Per Response: 30 minutes.

Annual Burden Hours: 30

Needs and Uses: The information collection requirement is necessary to obtain and record the professional qualifications of medical and peer reviewers utilized within CHAMPUS. The form is included as an exhibit in an appeal or hearing case file as evidence of the reviewer's professional qualifications to review the medical documentation contained in the case file. Respondents are medical professionals who provide medical and peer review of cases appealed to the Office of Appeals and Hearings, TRICARE Management Activity.

Affected Public: Individuals or households; Business or Other For-Profit.

Frequency: On occasion.

Respondent's Obligation: Voluntary.

OMB Desk Officer: Ms. Allison Eydt.

Written comments and recommendations on the proposed information collection should be sent to Ms. Eydt at the Office of Management and Budget, Desk Officer for DoD Health Affairs, Room 10235, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: July 10, 2000.
Patricia L. Toppings,
Alternate OSD Federal Register Liaison Officer, Department of Defense.

[FR Doc. 00-17849 Filed 7-13-00; 8:45 am]

BILLING CODE 5001-10-M